DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: The National Health Service Corps (NHSC) Professional Training and Information Questionnaire (PTIQ) (OMB No. 0915-0208)—Revision

The NHSC of the HRSA's Bureau of Health Professions (BHPr), is committed to improving the health of the Nation's underserved by uniting communities in need with caring health professionals and by supporting communities' efforts to build better systems of care.

The NHSC (authorized by the Public Health Service Act, section 331) collects data on its programs to ensure compliance with legislative mandates and to report to Congress and policy makers on program accomplishments. To meet these objectives, the NHSC requires a core set of information collected annually that is appropriate for monitoring and evaluating performance and reporting on annual trends.

The PTIQ is used to collect data related to professional practice from NHSC Scholarship Program recipients including physicians, dentists, physician assistants (PAs), nurse practioners (Nps), and certified nurse midwives (CNMs), in the current year's placement cycle. This data is used to match an individual health care professional with an appropriate clinical practice setting.

The PTIQ will be mailed twelve months in advance of the intended service availability date.

Estimates of annualized reporting burden are as follows:

Type of respondent | Number of respondents | Responses per respondent | Hours per response (minutes) | Total burden hours
Physicians and Dentists | 186 | 1 | 5 | 15.5 (16)
NPs, PAs, CNMs | 125 | 1 | 5 | 10.42 (10)
Health Care Professionals | 311 |  |  | 26

Written comments and recommendations concerning the proposed information collection should be sent within 30 days of this notice to: John Morrall, Human Resources and Housing Branch, Office of Management and Budget, New Executive Office Building, Room 10235, Washington, DC 20503.

Dated: July 26, 2002.
Jane M. Harrison,
Director, Division of Policy Review and Coordination.

[FR Doc. 02-19497 Filed 8-1-02; 8:45 am]

BILLING CODE 4165-15-P